DEPARTMENT OF COMMERCE

Foreign-Trade Zones Board

[S-106-2013]

Foreign-Trade Zone 92—Gulfport, Mississippi; Application for Subzone; Channel Control Merchants, LLC, Hattiesburg, Mississippi

An application has been submitted to the Foreign-Trade Zones Board (the Board) by the Mississippi Coast Foreign Trade Zone, Inc., grantee of FTZ 92, requesting subzone status for the facility of Channel Control Merchants, LLC, located in Hattiesburg, Mississippi. The application was submitted pursuant to the provisions of the Foreign-Trade Zones Act, as amended (19 U.S.C. 81a-81u), and the regulations of the Board (15 CFR part 400). It was formally docketed on July 1, 2013.

The proposed subzone (17.28 acres) is located at 5154 State Highway 42 in Hattiesburg, Mississippi. (A portion of the proposed subzone is currently designated as a temporary site of FTZ 92 (Site 14, 4 acres) which will expire on October 31, 2013.) No authorization for production activity has been requested at this time. The proposed subzone would be subject to the existing activation limit of FTZ 92.

In accordance with the Board's regulations, Camille Evans of the FTZ Staff is designated examiner to review the application and make recommendations to the Executive Secretary.

Public comment is invited from interested parties. Submissions shall be addressed to the Board's Executive Secretary at the address below. The closing period for their receipt is August 19, 2013. Rebuttal comments in response to material submitted during the foregoing period may be submitted during the subsequent 15-day period to September 3, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Camille Evans at Camille.Evans@trade.gov or (202) 482-2350.

Dated: July 1, 2013.
Elizabeth Whiteman,
Acting Executive Secretary.

[FR Doc. 2013-16349 Filed 7-5-13; 8:45 am]

BILLING CODE 3510-DS-P